DEPARTMENT OF ENERGY

Office of Arms Control and Nonproliferation

Proposed Subsequent Arrangement

AGENCY: Department of Energy.

ACTION: Notice of subsequent arrangement.

SUMMARY: This notice is being issued under the authority of Section 131 of the Atomic Energy Act of 1954, as amended (42 U.S.C. 2160). The Department is providing notice of a proposed “subsequent arrangement” under the Agreement for Cooperation Concerning Civil Uses of Atomic Energy between the United States and Canada, and the Agreement for Cooperation Between the Government of the United States of America and the Government of the Republic of Korea Concerning Civil Uses of Atomic Energy.

This subsequent arrangement concerns the retransfer of seventeen 18-element driver fuel bundles, totaling 22,000 grams uranium, 4,355 g of which is in the isotope uranium-235, from Atomic Energy of Canada, Limited to the Korea Atomic Energy Research Institute (KAERI) Hanaro Reactor Center. The material, which is currently located Chalk River, Ontario, will be used by KAERI for additional fueling for the Hanaro Reactor Center. The material, which was originally obtained from the U.S. Department of Energy, Oak Ridge, exported to Canada under export license number XSNM3305.

In accordance with Section 131 of the Atomic Energy Act of 1954, as amended, we have determined that this subsequent arrangement will not be inimical to the common defense and security.

This subsequent arrangement will take effect no sooner than fifteen days after the publication of this notice.

For the Department of Energy.
Trisha Dedik,
Director, Office of Nonproliferation Policy.

[FR Doc. 04-11316 Filed 5-18-04; 8:45 am]

BILLING CODE 6450-01-P